NATIONAL TRANSPORTATION SAFETY BOARD

Sunshine Act Meeting

TIME AND DATE: 9:30 a.m., Tuesday, May 24, 2011.

PLACE: NTSB Conference Center, 429 L'Enfant Plaza, SW., Washington, DC 20594.

STATUS: The two items are open to the public.

MATTERS TO BE CONSIDERED:

8251A Aircraft Accident Report: Collision into Mountainous Terrain, GCI Communication Corp., de Havilland DHC-3T, N455A, Aleknagik, Alaska, August 9, 2010.

8306 Aircraft Accident Report: Crash After Encounter with Instrument Meteorological Conditions During Takeoff from Remote Landing Site, New Mexico State Police Agusta S.p.A. A-109E, N606SP, near Santa Fe, New Mexico, June 9, 2009.

NEWS MEDIA CONTACT: Telephone: (202) 314-6100.

The press and public may enter the NTSB Conference Center one hour prior to the meeting for set up and seating.

Individuals requesting specific accommodations should contact Rochelle Hall at (202) 314-6305 by Friday, May 20, 2011.

The public may view the meeting via a live or archived webcast by accessing a link under “News & Events” on the NTSB home page at http://www.ntsb.gov.

FOR MORE INFORMATION CONTACT: Candi Bing, (202) 314-6403 or by e-mail at bingc@ntsb.gov.

Friday, May 13, 2011.
Candi R. Bing,
Federal Register Liaison Officer.

[FR Doc. 2011-12271 Filed 5-13-11; 4:15 pm]

BILLING CODE 7533-01-P